DEPARTMENT OF ENERGY

Federal Energy Regulatory Commission

Combined Notice of Filings #1

January 9, 2007.

Take notice that the Commission received the following electric corporate filings:

Docket Numbers: EC07-45-000.

Applicants: Morgan Stanley.

Description: Morgan Stanley submits an application for Blanket Authorization to Acquire Utility and/or Holding Company, Securities.

Filed Date: 12/29/2006.

Accession Number: 20070104-0519.

Comment Date: 5 p.m. Eastern Time on Friday, January 19, 2007.

Docket Numbers: EC07-46-000.

Applicants: Teton Power Holdings, LLC; Umatilla Power Holdings, LLC; Epsilon Power Holdings, LLC; Atlantic Power Holdings, LLC; Delta Person Limited Partnership; Onondaga, Cogeneration Limited Partnership; Vineland Energy LLC.

Description: Teton Power Holdings, LLC et al. submits an application for the indirect disposition of jurisdictional facilities, change in upstream ownership of Atlantic Path 15, et al.

Filed Date: 12/29/2006.

Accession Number: 20070104-0515.

Comment Date: 5 p.m. Eastern Time on Friday, January 19, 2007.

Take notice that the Commission received the following exempt wholesale generator filings:

Docket Numbers: EG07-28-000.

Applicants: Lea Power Partners, LLC.

Description: Lea Power Partners LLC submits an exempt Wholesale Generator Notice of Self Certification.

Filed Date: 01/03/2007.

Accession Number: 20070102-5034.

Comment Date: 5 p.m. Eastern Time on Wednesday, January 24, 2007.

Take notice that the Commission received the following electric rate filings.

Docket Numbers: ER01-1558-004; ER07-212-002.

Applicants: NEO California Power LLC; Wayzata California Power Holdings, LLC.

Description: Wayzata California Power Holdings, LLC submits its proposed FERC Electric Rate Schedule 1, to be effective 12/15/06.

Filed Date: 01/03/2007.

Accession Number: 20070105-0164.

Comment Date: 5 p.m. Eastern Time on Wednesday, January 24, 2007.

Docket Numbers: ER01-2568-003; ER98-4652-003; ER02-1175-002; ER01-2569-003.

Applicants: Boralex Ashland, Inc.; Boralex Stratton Energy LP; Boralex, Ft. Fairfield LP; Boralex Livermore Falls LP.

Description: Boralex Stratton Energy LP et al. submits this notice of change in status regarding a change in their indirect upstream ownership pursuant to Section 35.27(c) of FERC's Rules.

Filed Date: 01/03/2007.

Accession Number: 20070105-0169.

Comment Date: 5 p.m. Eastern Time on Wednesday, January 24, 2007.

Docket Numbers: ER04-708-002.

Applicants: Horsehead Corporation.

Description: Horsehead Corp submits a notice of Change in Status.

Filed Date: 01/03/2007.

Accession Number: 20070103-5127.

Comment Date: 5 p.m. Eastern Time on Wednesday, January 24, 2007.

Docket Numbers: ER06-993-004.

Applicants: Orion Power MidWest, L.P.

Description: Orion Power MidWest, LP submits proposed revisions to its tariff sheets to correct the rate schedule designation and to fix a typographical error.

Filed Date: 01/03/2007.

Accession Number: 20070105-0161.

Comment Date: 5 p.m. Eastern Time on Wednesday, January 24, 2007.

Docket Numbers: ER06-1437-002.

Applicants: E.On U.S., LLC; Kentucky Utilities Company.

Description: E.ON U.S. LLC, on behalf of Louisville Gas and Electric Company et al., submits an amendment of a Firm Point-to-Point transmission service agreement with Indiana Municipal Power Agency.

Filed Date: 01/04/2007.

Accession Number: 20070105-0200.

Comment Date: 5 p.m. Eastern Time on Thursday, January 25, 2007

Docket Numbers: ER07-109-003.

Applicants: BTEC Southaven LLC.

Description: BTEC Southaven, LLC submits its Third Substitute Original Sheet 2 to its FERC Electric Tariff.

Filed Date: 01/05/2007.

Accession Number: 20070108-0377.

Comment Date: 5 p.m. Eastern Time on Friday, January 26, 2007.

Docket Numbers: ER07-300-002.

Applicants: Connecticut Central Energy, LLC.

Description: Connecticut Central Energy, LLC submits a petition for acceptance of FERC Electric Rate Schedule 1 waivers and blanket authority.

Filed Date: 01/04/2007.

Accession Number: 20070105-0060.

Comment Date: 5 p.m. Eastern Time on Thursday, January 25, 2007.

Docket Numbers: ER07-400-000.

Applicants: IPA Marketing, Inc.

Description: IPA Marketing, Inc submits a Notice of Succession to notify, FERC of the adoption of Rate Schedule FERC 1 as a result of a corporate name change.

Filed Date: 01/03/2007.

Accession Number: 20070104-0042.

Comment Date: 5 p.m. Eastern Time on Wednesday, January 24, 2007.

Docket Numbers: ER07-401-000.

Applicants: MidAmerican Energy Company.

Description: MidAmerican Energy Co submits a Firm Transmission Service Agreement with the City of Pella, Iowa dated 12/28/06.

Filed Date: 01/03/2007.

Accession Number: 20070105-0168.

Comment Date: 5 p.m. Eastern Time on Wednesday, January 24, 2007.

Docket Numbers: ER07-402-000.

Applicants: Kentucky Utilities Company.

Description: Kentucky Utilities Company submits an amendment its Addendum to SEPA Supply Contract, Rate Schedule No. 300, with the City of Owensboro, Kentucky.

Filed Date: 01/03/2007.

Accession Number: 20070105-0167.

Comment Date: 5 p.m. Eastern Time on Wednesday, January 24, 2007.

Docket Numbers: ER07-403-000.

Applicants: Kentucky Utilities Company.

Description: Kentucky Utilities Company submits an amendment its Addendum to SEPA Supply Contract, Rate Schedule No. 308, with the City of Benham, Kentucky.

Filed Date: 01/03/2007.

Accession Number: 20070105-0165.

Comment Date: 5 p.m. Eastern Time on Wednesday, January 24, 2007.

Docket Numbers: ER07-404-000.

Applicants: Florida Power & Light Company.

Description: Florida Power and Light Company submits an unexecuted Standard Large Generator Interconnection Agreement with Lee County, Florida designated as Service Agreement 253.

Filed Date: 01/03/2007.

Accession Number: 20070105-0170.

Comment Date: 5 p.m. Eastern Time on Wednesday, January 24, 2007.

Docket Numbers: ER07-405-000.

Applicants: Central Maine Power Company.

Description: Central Maine Power Co submits an Executed Small Generator Interconnection Agreement with Fox Islands Electric Cooperative, Inc.

Filed Date: 01/03/2007.

Accession Number: 20070105-0206.

Comment Date: 5 p.m. Eastern Time on Wednesday, January 24, 2007.

Docket Numbers: ER07-406-000.

Applicants: Entergy Operating Companies; Entergy Services, Inc.

Description: Entergy Operating Companies submits an unexecuted Network Operating Agreement with Cleco Power, LLC.

Filed Date: 01/03/2007.

Accession Number: 20070105-0160.

Comment Date: 5 p.m. Eastern Time on Wednesday, January 24, 2007.

Docket Numbers: ER07-407-000.

Applicants: High Prairie Wind Farm II, LLC.

Description: High Prairie Wind Farm II, LLC submits an order accepting market-based rate tariff for filing (FERC Electric Tariff 1) and granting waivers and blanket approvals.

Filed Date: 01/03/2007.

Accession Number: 20070105-0159.

Comment Date: 5 p.m. Eastern Time on Wednesday, January 24, 2007.

Docket Numbers: ER07-408-000.

Applicants: Southwest Power Pool, Inc.

Description: Southwest Power Pool, Inc submits revisions to Attachment AD of its OATT to extend its Tariff Administration Agreement with Southwestern Power Administration.

Filed Date: 01/03/2007.

Accession Number: 20070105-0157.

Comment Date: 5 p.m. Eastern Time on Wednesday, January 24, 2007.

Docket Numbers: ER07-409-000.

Applicants: Southern California Edison Company.

Description: Southern California Edison Co submits revised rate sheets for the Letter Agreements between the Transmission & Distribution Business Unit of SCE and the Power Production Department of the Generation Business Unit.

Filed Date: 01/04/2007.

Accession Number: 20070105-0058.

Comment Date: 5 p.m. Eastern Time on Thursday, January 25, 2007.

Docket Numbers: ER07-410-000.

Applicants: Oklahoma Gas and Electric Company.

Description: Oklahoma Gas and Electric Company submits a Notice of Cancellation of its Rate Schedule FERC 147 Agreement for, Scheduling Exchange Service with Oklahoma Municipal Power Authority.

Filed Date: 01/04/2007.

Accession Number: 20070105-0199.

Comment Date: 5 p.m. Eastern Time on Thursday, January 25, 2007.

Docket Numbers: ER07-411-000.

Applicants: Oklahoma Gas and Electric Company.

Description: Oklahoma Gas and Electric Company submits revisions to the Agreement for Scheduling Exchange Service with Oklahoma Municipal Power Authority designated as Rate Schedule FERC 147.

Filed Date: 01/04/2007.

Accession Number: 20070105-0198.

Comment Date: 5 p.m. Eastern Time on Thursday, January 25, 2007.

Docket Numbers: ER07-412-000.

Applicants: ECP Energy I, LLC.

Description: ECP Energy I, LLC submits an application for Order, accepting Initial Tariff, Waiving Regulations and Granting Blanket Approvals.

Filed Date: 01/05/2007.

Accession Number: 20070108-0252.

Comment Date: 5 p.m. Eastern Time on Friday, January 26, 2007.

Docket Numbers: ER07-413-000.

Applicants: Tampa Electric Company.

Description: Tampa Electric Co submits its Second Revised Sheet 6 to, FERC Electric Tariff, Original Volume 6, to be effective, 1/2/07.

Filed Date: 01/05/2007.

Accession Number: 20070108-0253.

Comment Date: 5 p.m. Eastern Time on Friday, January 26, 2007.

Docket Numbers: ER07-415-000.

Applicants: DTE Pontiac North, LLC.

Description: DTE Pontiac North, LLC submits an application for order authorizing Market-Based Rates, Certain Waivers and, Blanket Authorizations.

Filed Date: 01/05/2007.

Accession Number: 20070108-0254.

Comment Date: 5 p.m. Eastern Time on Friday, January 26, 2007.

Docket Numbers: ER07-416-000.

Applicants: Geneva Roth Holding, LLC.

Description: Geneva Roth Holding, LLC submits a petition for acceptance of FERC Electric Tariff, Original Volume 1 waivers and, blanket authority.

Filed Date: 01/05/2007.

Accession Number: 20070108-0376.

Comment Date: 5 p.m. Eastern Time on Friday, January 26, 2007.

Take notice that the Commission received the following electric securities filings.

Docket Numbers: ES07-10-001.

Applicants: Kansas City Power & Light Company,

Description: Kansas City Power and Light Co submits an amendment to its Authorization Under Section 204(A) to Issue Short Term Debt and Request for Shortened Notice Period and Expedited Action.

Filed Date: 01/08/2007.

Accession Number: 20070108-5036.

Comment Date: 5 p.m. Eastern Time on Monday, January 22, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-450 Filed 1-12-07; 8:45 am]

BILLING CODE 6717-01-P